DEPARTMENT OF TRANSPORTATION

Federal Aviation Administration

14 CFR Part 71

[Airspace Docket No. 01-ANM-07]

Revision of Class E Airspace, Kemmerer, WY

AGENCY: Federal Aviation Administration (FAA), DOT.

ACTION: Final rule.

SUMMARY: this action revises the Class E airspace at Kemmerer, WY. Newly developed Area Navigation (RNAV) approaches at the Kemmerer Municipal Airport have made this action necessary. Additional Class E 1,200-feet controlled airspace, above the surface of the earth is required to contain aircraft executing the RNAV (Global Positioning System (GPS)) RWY 16 and RNAV (GPS) RWY 34 at Kemmerer Municipal Airport. The effect of this action is to provide adequate controlled airspace for Instrument Flight Rules (IFR) operations at Kemmerer Municipal Airport, Kemmerer, WY.

EFFECTIVE DATE: 0901 UTC, April 18, 2002.

FOR FURTHER INFORMATION CONTACT: Brien Durham, ANM-520.7, Federal Aviation Administration, Docket No. 01-ANM-07, 1601 Lind Avenue SW., Renton, Washington 98055-4056: telephone number: (425) 227-2527.

SUPPLEMENTARY INFORMATION:

History

On July 23, 2001, the FAA proposed to amend Title 14 Code of Federal Regulations, part 71 (14 CFR part 71) by revising Class E airspace at Kemmerer, WY, in order to provide a safer IFR environment at Kemmerer Municipal Airport, Kemmerer, WY (66 FR 38225). This amendment provides additional Class E5 700-feet and 1,200-feet controlled airspace at Kemmerer, WY, to contain IFR aircraft operating in the Kemmerer terminal area. Newly developed Area Navigation (RNAV) approaches at the Kemmerer Municipal Airport have made this action necessary. Interested parties were invited to participate in the rulemaking proceeding by submitting written comments on the proposal. A comment was received from the FAA AVN-500 Charting Office. A revision to the legal description as written in the Notice for Proposed Rule Making (NPRM) was required for charting purpose to amend an error in the Class E 1,200-feet airspace. This is considered an insignificant modification to the airspace description as the dimension of the proposed airspace described in the NPRM did not change.

The Rule

This amendment to Title 14 Code of Federal Regulations, part 71 (14 CFR part 71) revises Class E airspace at Kemmerer, WY, in order to provide adequate controlled airspace for Instrument Flight Rules (IFR) operations at Kemmerer Municipal Airport, Kemmerer, WY. This amendment revises Class E5 airspace at Kemmerer, WY, to enhance safety and efficiency of IFR flight operations in the Kemmerer terminal area. The FAA establishes Class E airspace where necessary to contain aircraft transitioning between the terminal and en route environments. This rule is designed to provide for the safe and efficient use of the navigable airspace and to promote safe flight operations under IFR at the Kemmerer Municipal Airport and between the terminal and en route transition stages.

The area will be depicted on aeronautical charts for pilot reference. The coordinates for this airspace docket are based on North American Datum 83. Class E airspace areas extending upward from 700 feet or more above the surface of the earth, are published in Paragraph 6005, of FAA Order 7400.9J dated August 31, 2001, and effective September 16, 2001, which is incorporated by reference in 14 CFR 71.1. The Class E airspace designation listed in this document will be published subsequently in the Order.

The FAA has determined that this regulation only involves an established body of technical regulations for which frequent and routine amendments are necessary to keep them operationally current. it, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority 49 U.S.C. 106(g), 40103, 40113, 40120; E.O. 10854, 24 FR 9565, 3 CFR, 1950-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 6005 Class E airspace areas extending upward from 700 feet or more above the surface of the earth.

* * * * *

ANM WY E5 Kemmerer, WY [Revised]

Kemmerer Municipal Airport, WY

Lat. 41°49′30″N., long. 110°33′32″ W.)

That airspace extending upward from 700 feet above the surface within the 8-mile radius of the Kemmerer Municipal Airport, and within 4 miles each side of the 174° bearing from the Kemmerer Airport extending from the airport 11 miles south of the airport, and within 3.6 miles each side of the 354° bearing from the Kemmerer Airport extending from the airport to 16.1 miles northwest of the airport; and that airspace extending upward form 1,200 feet above the surface bounded by a line beginning at lat. 41°30′00″N., long. 111°00′00″W.; to lat 42°10′00′N., long. 111°00′00″W.; to lat. 42°10′00″N., long. 110°00′00″W.; to lat. 41°30′00″N., long. 110°00′00″W.; to lat. 41°15′00″N., long. 110°23′00″W.; to point of origin; and excluding that airspace within Federal airways; and the Fort Bridger, WY, Class E airspace areas.

* * * * *

Issued in Seattle, Washington, on December 27, 2001.
Daniel A. Boyle,
Assistant Manager, Air Traffic Division, Northwest Mountain Region.

[FR Doc. 02-3790 Filed 2-14-02; 8:45 am]

BILLING CODE 4910-13-M